DEPARTMENT OF THE INTERIOR

Bureau of Ocean Energy Management

[Docket ID: BOEM-2020-0019]

Extension of Post-Sale Evaluation Period for Gulf of Mexico Lease Sale 254

AGENCY: Bureau of Ocean Energy Management (BOEM), Interior.

ACTION: Notice to extend post-sale evaluation period.

SUMMARY: This Notice extends the post-sale evaluation period for the Gulf of Mexico, Outer Continental Shelf (OCS) Oil and Gas Lease Sale 254 (Sale 254) by an additional 30 days. BOEM will complete the post-sale evaluation process for all bids received at Sale 254 by July 16, 2020. This extension is necessary due to operational constraints for the employees located in the BOEM New Orleans office resulting from health and safety concerns associated with the COVID-19 pandemic. Due to current hardware and software infrastructure limitations, BOEM staff are unable to perform geophysical subsurface interpretation while teleworking from their homes. Additional in-office work is still necessary to complete the post-sale evaluation process for these bids. Louisiana has been hit especially hard by the COVID-19 virus. The two most affected Louisiana parishes are Orleans and Jefferson Parishes, where the BOEM office building is located and most of the employees reside. In consideration of these factors, precautions and preventive measures were taken to keep all employees working from the safety of their homes until conditions improve.

DATES: The post-sale evaluation period for Sale 254 will conclude on July 16, 2020.

FOR FURTHER INFORMATION CONTACT: Matthew Wilson, Regional Supervisor, Office of Resource Evaluation, Gulf of Mexico Region, telephone 504-736-2710.

SUPPLEMENTARY INFORMATION: In connection with the Gulf of Mexico Lease Sale 254, held on March 18, 2020, BOEM received 84 bids on 71 tracts. On April 29, 2020, BOEM started the post bid-adequacy determination process in a limited capacity.

The COVID-19 pandemic introduced many operational challenges to BOEM management and staff of the New Orleans office. In compliance with both Federal and State guidelines and to limit the spread and impact of the COVID-19 virus on BOEM employees and the local community, the post-sale evaluation work was delayed. Even though it was deemed safe for mission essential employees to return to the office building on April 29, 2020, required social distancing measures will preclude full staffing and limit the Bureau's ability to timely complete routine work processes.

As a result of the delays in staff being able to return to the office and the required changes in the work environment (i.e., social distancing measures), BOEM requires additional time to conduct and complete the bid review process, originally scheduled to conclude on June 16, 2020, 90 days following the March 18, 2020 sale date. Under the provision of 30 CFR 556.516(b), BOEM is extending the bid evaluation period for Sale 254 until July 16, 2020.

Authority: This Notice is published pursuant to 30 CFR 556.516(b).

Michael Celata,
Regional Director, New Orleans Office, Bureau of Ocean and Energy Management.

[FR Doc. 2020-12527 Filed 6-9-20; 8:45 am]

BILLING CODE 4310-MR-P